DEPARTMENT OF COMMERCE

National Oceanic and Atmospheric Administration

Draft Papahanaumokuakea Marine National Monument Science Plan; Public Meetings

AGENCY: National Oceanic and Atmospheric Administration (NOAA), Department of Commerce (DOC).

ACTION: Notice of availability of the draft monument natural resources science plan; announcement of public meetings; request for comments.

SUMMARY: This notice advises the public that NOAA, FWS, and the State of Hawai`i's Department of Land and Natural Resources (DLNR), and Office of Hawaiian Affairs have prepared a draft monument natural resources science plan (NRSP) for the Papahanaumokuakea Marine National Monument (Monument) located in the Northwestern Hawaiian Islands (NWHI). The State of Hawai`i also participated in the development of the NRSP. The monument's research activities, ongoing and proposed, are described in the Draft NRSP. The NRSP is available for public review and comments. Two public meetings are scheduled to obtain your comments on the Draft NRSP, see DATES for details.

DATES: To ensure consideration, written comments should be received on or before August 10th, 2009. Two public meetings will be held where you will have opportunities to ask questions about the NRSP and provide formal comments. The meetings will be held from 6 p.m. to 8:30 p.m. on the following dates and locations:

• July 21th: Papahanaumokuakea Marine National Monument conference room, 6600 Kalanianaole Hwy, Suite 300, Honolulu, HI 96825.

• July 23th: Mokupapapa Discovery Center, 308 Kamehameha Ave, Suite 203, Hilo, HI, 96720.

ADDRESSES: The Draft NRSP is available on the FWS and NOAA Web site http://hawaiireef.noaa.gov/research/welcome.html.

You may provide written comments on the Draft NRSP by any of the following methods:

• U.S. Mail: Papahanaumokuakea Marine National Monument, Attn: Science Plan Comments, 6600 Kalanianaole Hwy, Suite 300, Honolulu HI, 96825; or

• Fax: to (808) 397-2662; or

• E-mail: nwhicomments@noaa.gov.

• Instructions: All comments received are a part of the public record. All Personal Identifying Information (for example, name, address, etc.) voluntarily submitted by the commenter may be publicly accessible. Do not submit confidential business information or otherwise sensitive or protected information. NOAA will accept anonymous comments (enter N/A in the required fields if you wish to remain anonymous). Attachments to electronic comments will be accepted in Microsoft Word, Excel, Wordperfect, or Adobe PDF file formats only.

FOR FURTHER INFORMATION CONTACT: T. `Aulani Wilhelm, Monument Superintendent (NOAA); 6600 Kalanianaole Highway, 300, Honolulu, HI 96825; (808) 397-2660.

SUPPLEMENTARY INFORMATION:

Monument Background

On June 15, 2006, President George W. Bush established the Northwestern Hawaiian Islands Marine National Monument by issuing Presidential Proclamation 8031 (Proclamation) (71 FR 36443, June 26, 2006) under the authority of the Act of June 8, 1906 (34 Stat. 225, 16 U.S.C. 431) (the Antiquities Act). On December 8, 2006, the Secretaries of Commerce and the Interior and the Governor of Hawai`i signed a Memorandum of Agreement for coordinated, integrated management and protection of the monument. On February 28, 2007, President Bush amended the Proclamation to rename the monument, Papahanaumokuakea Marine National Monument, to reflect native Hawaiian language and culture (72 FR 10031, March 6, 2007).

Location, Size, and Federal and State Resource Management

Proclamation 8031 reserves all lands and interests in lands owned or controlled by the Government of the United States in the Northwestern Hawaiian Islands (NWHI), including emergent and submerged lands and waters out to a distance of approximately 50 nautical miles from the islands. The monument is approximately 100 nautical miles wide and extends approximately 1,200 miles around coral islands, seamounts, banks, and shoals. The area includes the: Northwestern Hawaiian Islands Coral Reef Ecosystem Reserve, Midway Atoll National Wildlife Refuge/Battle of Midway National Memorial, Hawaiian Islands National Wildlife Refuge, Hawaii State Seabird Sanctuary at Kure Atoll, and State of Hawai`i's Northwestern Hawaiian Islands Marine Refuge. NOAA maintains responsibility for managing the NWHI Coral Reef Ecosystem Reserve, included within the monument, and has primary responsibility regarding the management of the marine areas of the monument, in consultation with FWS.

Refuge areas within the monument, including the Midway Atoll National Wildlife Refuge, the Battle of Midway National Memorial, and the Hawaiian Islands National Wildlife Refuge, are managed by FWS. The State maintains responsibility for managing state lands and waters within the monument, including the NWHI State Marine Refuge and State Seabird Sanctuary at Kure Atoll.

Public Outreach and the NRSP's Relationship to Previous Plans

The Co-Trustees created the Draft NRSP as one of several eventual “step-down” plans from the Monument Management Plan. The NRSP was written in consultation with all members of the Monument Management Board. Comments and issues raised during scoping are included in the Draft NRSP.

Condition Report

In preparation for science plan review, NOAA has produced a Papahanaumokuakea Marine National Monument Condition Report. The Condition Report provides a summary of resources in PMNM, pressures on those resources, the current condition and trends, and management responses to the pressures that threaten the integrity of the marine environment. Specifically, the Condition Report includes information on the status and trends of water quality, habitat, living resources and maritime archaeological resources and the human activities that affect them. The report serves as a supporting document for the Natural Resources Science Plan Review Process, to inform constituents who desire to participate in that process. It can be found online at http://sanctuaries.noaa.gov/science/condition/pmnm/download.html.

Public Availability of Comments

Before including your address, phone number, e-mail address, or other personal identifying information in your comment, you should be aware that your entire comment—including your personal identifying information—may be made publicly available at any time. While you can ask us in your comment to withhold your personal identifying information from public review, it cannot be guaranteed that we will be able to do so. For more information, please see the ADDRESSES section.

Dated: July 1, 2009.
Daniel J. Basta,
Director, Office of National Marine Sanctuaries.

[FR Doc. E9-16093 Filed 7-9-09; 8:45 am]

BILLING CODE 3510-NK-P